INTERNATIONAL TRADE COMMISSION

[Investigation No. 337-TA-849]

Certain Rubber Resins & Processes for Manufacturing Same; Commission Determination Not To Review an Initial Determination Granting in Part Complainant's Motion for Leave To File an Amended Complaint and To Amend the Notice of Investigation

AGENCY: U.S. International Trade Commission.

ACTION: Notice.

SUMMARY: Notice is hereby given that the U.S. International Trade Commission has determined not to review an initial determination (“ID”) (Order No. 21) of the presiding administrative law judge granting in part complainant's motion for leave to file an amended complaint and to amend the notice of investigation.

FOR FURTHER INFORMATION CONTACT: James A. Worth, Office of the General Counsel, U.S. International Trade Commission, 500 E Street SW., Washington, DC 20436, telephone 202-205-3065. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on June 26, 2012, based on a complaint filed on behalf of SI Group, Inc. of Schenectady, New York (“SI Group”) on May 21, 2012, as supplemented on June 12, 2012. 77 FR 38083 (June 26, 2012). The complaint alleged violations of section 337 of the Tariff Act of 1930, as amended, 19 U.S.C. 1337, in the sale for importation, importation, or sale after importation into the United States of certain rubber resins by reason of misappropriation of trade secrets, the threat or effect of which is to destroy or substantially injure an industry in the United States. The Commission's notice of investigation named as respondents Red Avenue Chemical Corp. of America of Rochester, New York; Thomas R. Crumlish, Jr. of Rochester, New York; Precision Measurement International LLC of Westland, Michigan; Sino Legend (Zhangjiagang) Chemical Co., Ltd. of Zhangjiagang City, China; Sino Legend Holding Group, Inc. c/o Mr. Richard A. Peters of Kowloon, Hong Kong; Sino Legend Holding Group Ltd. of Hong Kong; HongKong Sino Legend Group, Ltd. of North Point, Hong Kong; Red Avenue Chemical Co. Ltd. of Shanghai, China; Ning Zhang of North Vancouver, Canada; Quanhai Yang of Beijing, China; and Shanghai Lunsai International Trading Company of Shanghai City, China.

On October 16, 2012, SI Group filed a motion for leave to file an amended complaint and to amend the notice of investigation. SI Group requested to add the following parties as respondents: Red Avenue Group Limited of Kowloon, Hong Kong (“Red Avenue HK”); Sino Legend Holding Group Inc. of Majuro, Marshall Islands (“Sino Marshall Islands”); Gold Dynasty Limited c/o ATC Trustees (Cayman) Limited of Grand Cayman, Cayman Islands (“Gold Dynasty”); Elite Holding Group Inc. c/o Morgan & Morgan Trust Corporation (Belize) Limited of Belize City, Belize (“Elite”); Western Reserve Chemical Corporation of Stow, Ohio (“Western Chemical”); Biddle Sawyer Corporation of New York, New York (“Biddle Sawyer”). On October 26, 2012, the respondents filed a response in opposition and the Commission investigative attorney filed a response supporting the motion in part and opposing it in part.

On December 17, 2012, the ALJ issued an ID granting in part, and an order denying in part, complainant's motion for leave to file an amended complaint and to amend the notice of investigation. The ALJ granted the motion to amend the complaint and notice of investigation to add Red Avenue HK, Sino Marshall Islands, Gold Dynasty, and Elite as respondents. The ALJ denied the motion as to Western Chemical and Biddle Sawyer because it would have resulted in delay to the investigation. No petitions for review were filed.

The Commission has determined not to review the ID.

The authority for the Commission's determination is contained in section 337 of the Tariff Act of 1930, as amended (19 U.S.C. 1337), and in Part 210 of the Commission's Rules of Practice and Procedure (19 CFR part 210).

Issued: January 14, 2013.
By order of the Commission.
Lisa R. Barton,
Acting Secretary to the Commission.

[FR Doc. 2013-00910 Filed 1-16-13; 8:45 am]

BILLING CODE 7020-02-P